DEPARTMENT OF DEFENSE

Department of the Air Force

Intent To Grant an Exclusive Patent License

Pursuant to the provisions of Part 404 of Title 37, Code of Federal Regulations, which implements Public Law 96-517, as amended; the Department of the Air Force announces its intention to grant the University of Michigan, a land-grant educational institution duly organized, validly existing, and in good standing in the State of Michigan, having a place of business at 503 S. State St., Ann Arbor, MI 48109, an exclusive, with respect to future sublicensees, license to practice the invention in any right, title and interest the Air Force has in:

U.S. Provisional Patent Application No. 61/354,522, filed on June 14, 2010, entitled “SUPERHYDROPHILIC AND OLEOPHOBIC POROUS MATERIALS AND METHODS FOR MAKING AND USING THE SAME,” by Anish Tuteja et al.;

U.S. Non-provisional Patent Application No. 13/159,950, filed on June 14, 2011, entitled “SUPERHYDROPHILIC AND OLEOPHOBIC POROUS MATERIALS AND METHODS FOR MAKING AND USING THE SAME,” by Anish Tuteja et al.; and

International Patent Application No. PCT/US11/40353, filed on June 14, 2011, “SUPERHYDROPHILIC AND OLEOPHOBIC POROUS MATERIALS AND METHODS FOR MAKING AND USING THE SAME,” by Anish Tuteja et al.

The Air Force intends to grant a license for the patent and pending applications unless a written objection is received within fifteen (15) calendar days from the date of publication of this Notice. Written objection should be sent to: Air Force Materiel Command Law Office, AFMCLO/JAZ, 2240 B Street, Rm D-14, Wright-Patterson AFB, OH 45433-7109; Facsimile: (937) 255-3733.

Henry Williams,
DAF, Acting Air Force Federal Register Liaison Officer.

[FR Doc. 2013-28202 Filed 11-22-13; 8:45 am]

BILLING CODE P